DEPARTMENT OF JUSTICE

Office of Information Policy; Attorney General Memorandum for Executive Departments and Agencies Concerning the Freedom of Information Act

Correction

In notice document E9-23375 beginning on page 49892 in the issue of Tuesday, September 29, 2009, make the following correction:

On page 49893, in the first column, immediately following the signature block, three photo pages did not appear. The photo pages are printed below in their entirety.

[FR Doc. Z9-23375 Filed 10-7-09; 8:45 am]

BILLING CODE 1301-00-D